JUDICIAL CONFERENCE OF THE UNITED STATES

Meeting of the Judicial Conference Advisory Committee on Rules of Appellate Procedure

AGENCY: Advisory Committee on Rules of Appellate Procedure, Judicial Conference of the United States.

ACTION: Notice of open meeting.

SUMMARY: The Advisory Committee on Rules of Appellate Procedure will hold a meeting on May 2, 2017. The meeting will be open to public observation but not participation. An agenda and supporting materials will be posted at least 7 days in advance of the meeting at: http://www.uscourts.gov/rules-policies/records-and-archives-rules-committees/agenda-books.

DATES: May 2, 2017.

TIME: 8:30 a.m.

ADDRESSES: Hilton Harbor Island, Skyline and Lindberg Meeting Rooms, 1960 Harbor Island Drive, San Diego, CA 92101

FOR FURTHER INFORMATION CONTACT: Rebecca A. Womeldorf, Rules Committee Secretary, Rules Committee Support Office, Administrative Office of the United States Courts, Washington, DC 20544, telephone (202) 502-1820.

Dated: March 30, 2017.
Rebecca A. Womeldorf,
Rules Committee Secretary.

[FR Doc. 2017-06620 Filed 4-3-17; 8:45 am]

BILLING CODE 2210-55-P